DEPARTMENT OF LABOR

Occupational Safety and Health Administration

[Docket No. ICR 1218-TWOW (2001)]

State Plans for the Development and Enforcement of Standards; Office of Management and Budget (OMB) Approval of Information-Collection (Paperwork) Requirements; 29 CFR Parts 1902, 1952, 1953, 1954, 1955, 1956

ACTION: Notice of opportunity for public comment.

SUMMARY: The Occupational Safety and Health Administration (OSHA) solicits public comment concerning its request for Office of Management and Budget (OMB) approval of the information collection requirements associated with its regulations regarding State Plans for the development and enforcement of standards. Section 18 of the Occupational Safety and Health Act offers an opportunity to the States to assume responsibility for the development and enforcement of State standards through the mechanism of an OSHA-approved State Plan. Absent an approved plan States are precluded from enforcing occupational safety and health standards with respect to an issue that is addressed by OSHA. In order to obtain and maintain State Plan approval, a State must submit various documents to OSHA describing its program operation under 29 CFR Parts 1902, 1952, 1953, 1954, 1955, and 1956.

DATES: Submit written comments on or before November 5, 2001.

ADDRESSES: Submit written comments to the Docket Office, Docket No. ICR 1218-TWOW (2001), Occupational Safety and Health Administration, U.S. Department of Labor, Room N-2625, 200 Constitution Avenue, NW., Washington, DC 20210. Telephone: (202) 693-2350. Commenters may transmit written comments of 10 pages or less by facsimile to (202) 693-1648.

FOR FURTHER INFORMATION CONTACT: Diane Price, Directorate of Federal-State Operations, Office of State Programs, Occupational Safety and Health Administration, U.S. Department of Labor, Room N-3700, 200 Constitution Avenue, NW., Washington, DC 20210, telephone; (202) 693-2244, e-mail Diane.Price@osha.gov. A copy of the agency's Information Collection Request (ICR) supporting the need for the information collections specified in these regulations is available for inspection and copying in the Docket Office, or by requesting a copy from Todd Owen at (202) 693-2444. For electronic copies of the ICR contact OSHA on the Internet at http://www.osha.gov/comp-links.html and select “Information Collection Requests.”

SUPPLEMENTARY INFORMATION:

I. Background

The Department of Labor, as part of its continuing effort to reduce paperwork and respondent burden, conducts a pre-clearance consultation program to provide the general public with an opportunity to comment on proposed and/or continuing collections of information in accordance with the Paperwork Reduction Act of 1995 (PRA 95) (44 U.S.C. 3506(c)(2)(A)). This program ensures that information is in the desired format, has practical utility, reporting burden (time and cost) is minimized, collection instruments are understandable, and OSHA's estimate of the information collection burden is correct. Currently, OSHA is soliciting comments concerning the information collection requirements contained in the series of regulations establishing requirements for the initial approval, continuing approval, final approval, monitoring and evaluation of OSHA-approved State Plans:

29 CFR part 1902, State Plans for the Development and Enforcement of State Standards;

29 CFR part 1952, Approved State Plans for Enforcement of State Standards;

29 CFR part 1953, Changes to State Plans for the Development and Enforcement of State Standards;

29 CFR part 1954, Procedures for the Evaluation and Monitoring of Approved State Plans;

29 CFR part 1955, Procedures for Withdrawal of Approval of State Plans;

29 CFR part 1956, State Plans for the Development and Enforcement of State Standards Applicable to State and Local Government Employees in States without Approved Private Employee Plans

II. Special Issues for Comment

OSHA has a particular interest in comments on the following issues:

• Whether the proposed collection of information is necessary for the proper performance of OSHA's functions, including whether the information is useful;

• The accuracy of OSHA's estimate of the burden (time and cost) of the information collection requirements, including the validity of the methodology and assumptions used;

• The quality, utility, and clarity of the information collected; and

• Ways to minimize the burden on participating States, for example, by using automated or other technological information collection and transmission techniques.

III. Proposed Actions

OSHA is requesting OMB approval of the collection-of-information requirements associated with its State Plan regulations. Specifically, OSHA is requesting approval of a total burden-hour estimate of 9,874 hours affecting the 26 States that currently operate OSHA-approved State plans:

Information collection requirement | Estimated burden hours
State Plan Submission and Approval 29 CFR 1902, 1952, Subparts A-C, 1952, Subpart A | ¹ 0
State Plan Changes 29 CFR 1953 | 2,360
State Plan Monitoring Activities 29 CFR 1954 | 7,514
Total | 9,874
¹ No State Plans currently pending; 2000 burden hours for active collection.

The Agency will summarize the comments submitted in response to this notice. OSHA will then include this summary in its request to OMB to approve these information collection requirements.

Type of Review: New.

Agency: U.S. Department of Labor, Occupational Safety and Health Administration.

Title: State Plans for the Development and Enforcement of Standards.

OMB Number: 1218-0NEW.

Agency Number: Docket Number ICR-1218-TWOW (2001).

Affected Public: Designated State government agencies which have submitted and obtained approval for State Plans for the development and enforcement of occupational safety and health standards.

Number of Respondents: 26.

Frequency of Response: On occasion; quarterly; annually.

Average Time Per Response: Varies from 1 hour to respond to an information survey to 80 hours to document State annual performance goals.

Estimated total burden hours: 9,874.

Estimated Cost: 0. There are no capital or start-up costs.

IV. Authority and Signature

John L. Henshaw, Assistant Secretary of Labor for Occupational Safety and Health, directed the preparation of this notice. The authority for this notice is the Paperwork Reduction Act of 1995 (44 U.S.C. 3506) and Secretary of Labor's Order No. 3-2000 (65 FR 50017).

Signed at Washington, D.C., on August 28, 2001.
John L. Henshaw,
Assistant Secretary of Labor.

[FR Doc. 01-22141 Filed 8-31-01; 8:45 am]

BILLING CODE 4510-26-M